DEPARTMENT OF COMMERCE

International Trade Administration

[A-570-137]

Pentafluoroethane (R-125) From the People's Republic of China: Postponement of Preliminary Determination in the Less-Than-Fair-Value Investigation

AGENCY: Enforcement and Compliance, International Trade Administration, Department of Commerce.

DATES: Applicable June 3, 2021.

FOR FURTHER INFORMATION CONTACT: Alex Wood or Benjamin A. Luberda, AD/CVD Operations, Office II, Enforcement and Compliance, International Trade Administration, U.S. Department of Commerce, 1401 Constitution Avenue NW, Washington, DC 20230; telephone: (202) 482-1959 and (202) 482-2185, respectively.

SUPPLEMENTARY INFORMATION:

Background

On February 1, 2021, the Department of Commerce (Commerce) initiated a less-than-fair-value (LTFV) investigation of imports of pentafluoroethane (R-125) from the People's Republic of China (China).¹ Currently, the preliminary determination is due no later than June 21, 2021.

¹ See Pentafluoroethane (R-125) from the People's Republic of China: Initiation of Less-Than-Fair-Value Investigation, 86 FR 8583 (February 8, 2021).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Honeywell International Inc.

On May 21, 2021, the petitioner submitted a timely request that Commerce postpone the preliminary determination in the LTFV investigation.³ The petitioner stated that it requests postponement “to permit Commerce to fully develop the record in this investigation.” ⁴ The petitioner believes additional time is necessary to ensure that Commerce is able “to sufficiently review all questionnaire responses and new factual information, including that with respect to surrogate country and data to value factors of production.” ⁵ The petitioner also correctly notes that Commerce has not yet received respondent's supplemental questionnaire responses which are necessary for a complete accounting of production and sales data.⁶

³ See Petitioner's Letter, “Petitioner's Request to Postpone the Preliminary Determination,” dated May 21, 2021.

⁴ Id.

⁵ Id.

⁶ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than August 10, 2021. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: May 27, 2021.
Christian Marsh,
Acting Assistant Secretary for Enforcement and Compliance.

[FR Doc. 2021-11672 Filed 6-2-21; 8:45 am]

BILLING CODE 3510-DS-P